FEDERAL COMMUNICATIONS COMMISSION

47 CFR Part 64

[CG Docket No. 23-362, FCC 24-84; FR ID 239002]

Implications of Artificial Intelligence Technologies on Protecting Consumers From Unwanted Robocalls and Robotexts

AGENCY: Federal Communications Commission.

ACTION: Proposed rule.

SUMMARY: In this document, the Federal Communications Commission (Commission or FCC) proposes steps to protect consumers from the abuse of Artificial Intelligence (AI) in robocalls alongside actions that clear the path for positive uses of AI, including its use to improve access to the telephone network for people with disabilities. Specifically, the document proposes to: define AI-generated calls, adopt new rules that would require callers disclose to consumers when they receive an AI-generated call, adopt protections for consumers to ensure that callers adequately apprise them of their use of AI-generated calls when consumers affirmatively consent to receive such calls, adopt protections to ensure that positive uses of AI that have already helped people with disabilities use the telephone network can thrive without threat of Telephone Consumer Protection Act (TCPA) liability. The document also seeks additional comment and information on developing technologies that can alert consumers to unwanted or illegal calls and texts, including AI-generated calls.

DATES: Comments are due on or before October 10, 2024, and reply comments are due on or before October 25, 2024.

ADDRESSES: Pursuant to §§ 1.415 and 1.419 of the Commission's rules, 47 CFR 1.415, 1.419, interested parties may file comments and reply comments on or before the dates indicated in this document. Comments and reply comments may be filed using the Commission's Electronic Comment Filing System (ECFS). See Electronic Filing of Documents in Rulemaking Proceedings, 63 FR 24121 (1998). You may submit comments, identified by CG Docket No. 17-59, by any of the following methods by any of the following methods:

• Electronic Filers: Comments may be filed electronically using the internet by accessing ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People With Disabilities: Contact the FCC to request reasonable accommodations (accessible format documents, sign language interpreters, CART, etc.) by email: FCC504@fcc.gov or phone: 202-418-0530 or TTY: 202-418-0432.

FOR FURTHER INFORMATION CONTACT: For further information, please contact Richard D. Smith, Attorney Advisor, Consumer Policy Division, Consumer and Governmental Affairs Bureau, at Richard.Smith@fcc.gov or (717) 338-2797 or Noah Cherry, Attorney Advisor, Consumer Policy Division, Consumer and Governmental Affairs Bureau, at Noah.Cherry@fcc.gov or (202) 418-7835. For additional information concerning the Paperwork Reduction Act proposed information collection requirements contained in this document, send an email to PRA@fcc.gov or contact Cathy Williams at (202) 418-2918.

SUPPLEMENTARY INFORMATION: This is a summary of the Commission's Notice of Proposed Rulemaking (NPRM) and Notice of Inquiry (NOI) in CG Docket No. 23-362, FCC 24-84, adopted on August 7, 2024, and released on August 8, 2024. The full text of this document is available for public inspection at the following internet address: https://docs.fcc.gov/public/attachments/FCC-24-84A1.pdf To request materials in accessible formats for people with disabilities (e.g., braille, large print, electronic files, audio format, etc.), send an email to fcc504@fcc.gov or call the Consumer & Governmental Affairs Bureau at (202) 418-0530 (voice), or (202) 418-0432 (TTY).

In addition to filing comments with the Secretary, a copy of any comments on the Paperwork Reduction Act proposed information collection requirements contained herein should be submitted to the Federal Communications Commission via email to PRA@fcc.gov and to Cathy Williams, FCC, via email to Cathy.Williams@fcc.gov.

Providing Accountability Through Transparency Act: The Providing Accountability Through Transparency Act, Public Law 118-9, requires each agency, in providing notice of a rulemaking, to post online a brief plain-language summary of the proposed rule. The required summary of the NPRM is available at https://www.fcc.gov/proposed-rulemakings.

Initial Paperwork Reduction Act of 1995 Analysis. This document contains proposed information collection requirements. The Commission, as part of its continuing effort to reduce paperwork burdens, invites the general public to comment on the information collection requirements contained in this document, as required by the Paperwork Reduction Act of 1995, Public Law 104-13. Public and agency comments are due November 12, 2024.

Comments should address: (a) whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) way to further reduce the information collection burden on small business concerns with fewer than 25 employees. In addition, pursuant to the Small Business Paperwork Relief Act of 2002, Public Law 107-198, see 44 U.S.C. 3506(c)(4), the Commission seeks specific comment on how it might further reduce the information collection burden for small business concerns with fewer than 25 employees.

Synopsis

Notice of Proposed Rulemaking

1. Complaints regarding unwanted and illegal robocalls and robotexts are consistently the top category of consumer complaints that the Commission receives. As a result, it is critical that the Commission stay abreast of new technologies that may impact the privacy protections afforded to consumers under the TCPA. The Commission thus proposes and seeks comment on measures designed to ensure that its rules keep pace with the fast-developing changes in AI technologies. In so doing, the Commission also seeks to ensure that the Commission's rules do not hinder the potential benefits that AI technologies can offer, including making telecommunications more readily accessible to individuals with disabilities.

AI-Generated Call Definition

2. For purposes of identifying the types of calls that would be subject to the new rules proposed below, the Commission proposes to define “AI generated call” as “a call that uses any technology or tool to generate an artificial or prerecorded voice or a text using computational technology or other machine learning, including predictive algorithms, and large language models, to process natural language and produce voice or text content to communicate with a called party over an outbound telephone call.” The Commission acknowledges that AI technologies are evolving quickly and seek comment both on this proposed definition and on how to best ensure that any definition the Commission adopt keeps pace with these changes.

3. The Commission believes this definition is consistent with Federal and state AI definitions cited in the AI NOI, and tailored to reflect the privacy protections under the Telephone Consumer Protection Act (TCPA), Telephone Consumer Protection Act of 1991, Public Law 102-243, 105 Stat. 2394 (1991), codified at 47 U.S.C. 227, by focusing on AI-generated voice or text calls used to interact with consumers in outbound telephone calls. For example, the TCPA's prohibition on using an artificial or prerecorded voice message extends only to outbound calls that are “made” or “initiated” by the caller. The TCPA's requirements do not extend to technologies used to answer inbound calls. As a result, this definition avoids unintentionally encumbering uses of AI technologies that consumers never interact with and widely used existing customer service technologies on inbound calls. In addition, for the new disclosure that the Commission proposes in the NPRM to apply to autodialed text messages, the message would first have to be sent using equipment that meets the definition of an “automatic telephone dialing system” as defined by the TCPA. And second, they would need to meet the definition of “AI-generated call” that the Commission proposes pursuant to the NPRM.

4. The Commission seeks comment on this proposed definition. Is this proposed definition suitable for addressing both the potential benefits and harms raised by AI technology? In other words, does the proposed definition capture the potentially harmful uses of AI that consumers would want an opportunity to avoid by having the option to not get those calls while excluding the positive uses of AI that the Commission would not want to deter with an express prior consent requirement? Is the proposed definition overinclusive or underinclusive? What changes, if any, should the Commission consider in adopting a definition of AI for these purposes?

5. Alternatively, the Commission seeks comment on whether it is necessary to define “AI-generated call” with specificity, given that the TCPA expressly covers “artificial or prerecorded voice,” and given that the Commission has already determined that voice cloning and similar technologies qualify under that statutory phrase. If the Commission does not define an AI-generated call in this context, how would callers determine whether the disclosure obligations proposed below apply to the calls and texts messages that they are sending?

AI-Generated Call Disclosure

6. The Commission proposes and seeks comment on new disclosure rules that would apply to AI-generated calls. First, The Commission proposes requiring callers making calls using AI-generated artificial or prerecorded voice messages to include clear and conspicuous disclosure that the consumer's consent to receive artificial and prerecorded calls may include consent to receive AI-generated calls, defined by the proposal the Commission describes above. Further, the Commission proposes requiring callers making autodialed text messages that include AI-generated content to provide clear and conspicuous disclosure that the consumer's consent to receive such messages may include consent to receive AI-generated content as defined by the proposal the Commission describes above. Finally, the Commission also proposes requiring callers using AI-generated voice to, at the beginning of each call, clearly disclose to the called party that the call is using AI-generated technology. The Commission's rules already require callers to obtain prior express consent from consumers to make artificial or prerecorded voice calls or autodialed calls absent an exemption. To facilitate consumers' ability to make an informed decision to manage unwanted calls, the Commission's rules require that callers making artificial or prerecorded voice calls disclose, at the beginning of the message, certain information that would enable the called party to identify the person or entity initiating the call. For calls that require the prior express written consent of the called party and which contain AI-generated messages, the Commission proposes that the written agreement authorizing delivery of such calls include clear and conspicuous disclosure informing the called party that they specifically authorize the caller to make calls containing AI-generated content.

7. The Commission seeks comment on requiring additional disclosures at the point of consent. For calls that already require prior express consent, would it benefit consumers to require them to provide separate consent to receive AI-generated calls? The Commission believes that in, reliance on the Commission's prior express consent framework dating back several decades, many callers have already captured prior express consent to place autodialed and/or artificial or prerecorded voice calls in a manner that comports with the TCPA and the Commission's current rules. These callers, many of which are large consumer-facing institutions, rely on these consents at scale to place a large volume of artificial or prerecorded calls on a daily basis. Given this, should the Commission's proposed changes to disclosures at the point of consent apply prospectively only? In other words, should the Commission grandfather existing consents to place autodialed and/or artificial or prerecorded voice calls—either indefinitely or for a limited time? Would doing so minimize operational disruptions to obtain new consent? In conjunction with the Commission's cost/benefit analysis, the Commission seeks comment on the burdens that may be entailed by callers if they are required to disclose to those consumers from whom they already obtained consent that they intend to use AI-generated calls. To what extent would any new disclosure requirements, whether or not applied prospectively, create the risk of unwarranted liability that callers may face for practices that are currently compliant, but may not be going forward? Would retroactive changes frustrate consumers from receiving, and callers from placing, mutually beneficial communications that are wanted and expected? On the other hand, would bifurcating consent risk confusing consumers when they receive AI-generated calls when they believe they withheld consent to receive AI-generated calls? The Commission also seeks comment on the potential benefits of such disclosures to those consumers who have already provided their consent to be called. Would pre-call disclosures that AI-generated voice is used, as discussed below, mitigate the harm of receiving “artificial voice” calls to which consumers already consented, but may not wish to receive in the future?

8. The Commission also seeks comment on the potential benefits and drawbacks of any new disclosures, made at the beginning of each AI-generated artificial or prerecorded voice call, that AI-generated voice was used. Would it add value to consumers beyond the current requirement, which is simply that callers must disclose their identity when making an artificial voice or prerecorded call, and not specifically whether the call is an AI-generated call? Would consumers benefit from new disclosures that apply to “AI-generated calls,” but not to “artificial or prerecorded voice” calls outside the new definition? The Commission notes that its rules do not require pre-call disclosures about the technology used in artificial or prerecorded voice calls. Should the Commission consider different approaches that might better promote greater consumer awareness of AI-generated calls while minimizing any burdens such disclosures entail for smaller entities? In addition, the Commission seeks comment on whether any specific categories or usage of AI-generated calls should be excluded from the pre-call consent or on-call AI-generated disclosure requirements. For example, the Commission proposes below to create an exemption for calls made by individuals with disabilities to facilitate their ability to communicate over the telephone network.

9. The Commission also seeks comment on whether the proposed disclosure at the beginning of an AI-generated voice call should include a special tone, icon, badging, or other indication that is visual, auditory, or otherwise to the called party. If so, which means is the most effective and cost efficient to ensure that consumers are made aware of the use of AI-generated content on the call? Should the Commission require that callers provide consumers the option to opt out of AI-generated voice calls if a consumer wishes to continue receiving non-AI robocalls from a caller? If so, how should the Commission effectuate such an option in a way that minimizes the risk of abuse by requiring consumers to make multiple opt-out requests to stop unwanted calls? The Commission seeks comment on these and any other related issues in this context.

Promoting Access to Telephone Service by Individuals With Disabilities

10. The Commission propose to exercise its authority under sections 227(b)(2)(B) and (C) of the Act to exempt from the TCPA's requirements artificial or prerecorded voice calls made by an individual with a speech or hearing disability using any technology, including artificial intelligence technologies, designed to facilitate the ability of such individuals to communicate over the telephone. The Commission does so to ensure that its protections against AI abuses do not deter development and use of AI-powered tools that enable people with disabilities to better use the telephone network. The Commission emphasizes that its proposed exemptions extend to the use of any technology that assists individuals with disabilities to communicate by artificial or prerecorded voice and are not limited to AI technologies. Consistent with its treatment of certain healthcare-related calls, the Commission proposes to exempt artificial or prerecorded voice calls made by individuals with speech and hearing disabilities who are using AI-generated voice when making an outbound telephone call in order to assist in communicating with a called party from the TCPA's consent and identification requirements.

11. It is the Commission's view that this exemption would be consistent with Congress' and the Commission's emphasis on access to telecommunications services by persons with disabilities as an important national policy objective. In 1990, Congress enacted the Americans with Disabilities Act, which established the Telecommunications Relay Service (TRS) program. The intent of section 225, which governs telecommunications services for people who have hearing and speech disabilities, is “to further the [Communication] Act's goal of universal service by providing to individuals with hearing or speech disabilities telephone services that are functionally equivalent to those provided to individuals without hearing or speech disabilities.” In 1996, Congress recognized that, with the nation's “increasing dependence on telecommunications tools, people with disabilities remain unable to access many products and services that are vital to full participation in our society.” Accordingly, Congress added section 255 of the Communications Act “to amend this situation by bringing the benefits of the telecommunications revolution to all Americans, including those who face accessibility barriers to telecommunications products and services.” In addition, the Commission has recognized the importance of accessibility, explaining that “the federal government must promote innovative and affordable solutions to ensure that people with disabilities have equal access to communications services and that they do not bear disproportionate costs to obtain that access.”

12. As discussed above, section 227(b)(2)(B) authorizes the Commission to adopt, by rule or order, exemptions from the TCPA's requirements for artificial or prerecorded voice calls to residential telephone lines that are “not made for a commercial purpose” and for “such classes or categories of calls made for commercial purposes” that do not adversely affect the privacy rights of the called party and do not transmit an unsolicited advertisement. The Commission tentatively concludes pursuant to both these provisions that an exemption for the use of AI and other related technologies that assist individuals with disabilities to communicate by artificial or prerecorded voice over the telephone to residential telephone lines would promote the public interest in substantial ways by ensuring that beneficial uses of these technologies are not impeded by the TCPA's requirements. Consistent with the statutory requirement, the Commission also proposes that calls made under this exemption must not contain any unsolicited advertisement. The Commission seeks comment on this proposal.

13. Residential Telephone Exemption. Access to telecommunications services is an increasingly critical tool in our society with increasing numbers of people using such services to work from home, learn in educational settings, access healthcare, access government and emergency services, and keep in touch with family and friends. This is particularly critical for individuals with disabilities. In addition, the Commission finds no reason to believe that the privacy interests that section 227 is designed to protect will be adversely affected by this limited exemption. For example, the Commission does not expect the volume of such calls to be significant. Moreover, because such calls cannot contain unsolicited advertisements, the Commission predicts that most calls made to residential lines pursuant to this exemption will primarily be made to individuals who are often expecting them (e.g., friends, family). The Commission seeks comment on this view. Would the proposed exemption benefit persons with disabilities and encourage development of technologies that assist persons with disabilities in communicating by telephone? Could the exemption be abused, for example, by scammers who attempt to use those technologies to defraud or otherwise harm consumers? If so, how can the Commission modify the proposal to avoid such abuses?

14. Wireless Exemption. As discussed above, section 227(b)(2)(C) authorizes the Commission to exempt from this the TCPA's restrictions, by rule or order, calls to a number assigned to a cellular service “that are not charged to the called party, subject to such conditions as the Commission may prescribe as necessary in the interests of the privacy rights. For similar reasons to those discussed above, the Commission tentatively concludes that the use of AI and other related technologies that assist individuals with disabilities to communicate by artificial or prerecorded voice in calls to wireless telephone numbers should not be impeded by the TCPA's requirements. The Commission therefore proposes to exempt such calls pursuant to the condition that they must not contain any telemarketing or advertisement. The Commission believes that compliance with this condition would not unduly impair the ability of individuals with disabilities to use the telephone network or impose burdensome compliance obligations. The Commission seeks comment on this proposal.

15. The statute requires that any calls to wireless telephone numbers that are exempted from the TCPA's restrictions be “not charged to the called party.” The Commission seeks comment on how this condition can be satisfied in the Commission's proposal. The Commission believes that it is unreasonable to expect individuals with disabilities to ascertain in every instance whether the called party is charged for an incoming call. As noted above, the TCPA authorizes the Commission to “prescribe technical and procedural standards for systems that are used to transmit any artificial or prerecorded voice message via telephone.” Could the Commission require or encourage wireless providers and others under this or other authority to ensure that these calls are not charged to the called party? Are there other alternative solutions that the Commission should consider? The Commission has concluded that the TCPA's “not charged” requirement precludes exempting incoming calls that count against the recipient's allotted minutes or texts. Given the substantial public interest considerations, should the Commission take a different view in this context? To what extent is the “not charged to the called party” condition a practical impediment to the use of the exemption in the current wireless marketplace? For example, to what extent are wireless consumers still charged for incoming calls? The Commission seeks comment on these and any other considerations relevant to its proposal.

16. TRACED Act. The Commission tentatively concludes that the exemptions discussed above satisfy the relevant provisions of the TRACED Act. Section 8 of the TRACED Act amended section 227(b)(2) of the Communications Act to require that the Commission ensure that any exemption granted under sections 227(b)(2)(B) or (C) allowing callers to make artificial voice, prerecorded voice, or autodialed calls without consent include certain conditions. Specifically, section 8 requires that any such exemption contain requirements with respect to: “(i) the classes of parties that may make such calls; (ii) the classes of parties that may be called; and (iii) the number of such calls that a calling party may make to a particular called party.”

17. The Commission proposes that the “class of parties that may make such calls” under the exemption is any individual with a speech or hearing disability that utilizes an AI or other technology to assist in communicating by artificial or prerecorded voice over the telephone. The Commission believes this class of individuals is sufficiently clear. The Commission seeks comment on whether it needs to broaden this class of parties to ensure that the Commission encompasses any other individuals with disabilities who make use of artificial or prerecorded voice technologies to communicate over the telephone. If so, how should the Commission define this class of parties? At this time, the Commission will not require that individuals demonstrate proof of such a disability, because the Commission finds that such a requirement would be potentially burdensome and a potential privacy invasion given the lack of any basis at this time to conclude that there are grounds for abuse. The Commission proposes that “the classes of parties that may be called” in this instance extends to calls made to parties for purposes that do not include unsolicited advertising or telemarketing. In this instance, the public policy goal of ensuring that individuals with disabilities are not encumbered with any impediments from telephone usage exceeds any concern regarding adverse privacy risks, which seem to be minimal in this context. The Commission seeks comment on this proposal.

18. Lastly, the Commission tentatively concludes that limiting such calls to those that do not include unsolicited telemarketing establishes a functional limit on the number of such calls made in this context (i.e., individuals with hearing or speech disabilities utilizing artificial or prerecorded voice technologies on calls in which they are present and communicating) that is consistent with the objectives of promoting access to telephone service by individuals with disabilities. The Commission tentatively concludes that “the number of such calls that a calling party may make” should not be a specific numerical limitation in this context because such a limitation would risk depriving individuals with disabilities of basic access to telephone service while necessitating that they track the number of such calls that they are making each day, an outcome inconsistent with national policy objectives and laws designed to promote such usage.

19. The Commission seeks comment on these tentative conclusions, including any alternative means to satisfy the TRACED Act's requirements in a way that promotes access to telephone service without unduly burdening individuals with disabilities.

20. Alternatives. As an alternative to creating an exemption for artificial or prerecorded voice calls made by an individual with a speech or hearing disability using any technology, including artificial intelligence technologies, designed to facilitate the ability of such individuals to communicate over the telephone, the Commission seeks comment on whether it can define “artificial or prerecorded voice” in a way that excludes from the requirements of the TCPA the use of technologies that are designed to assist individuals with disabilities to communicate by voice over the telephone network. The Commission notes that the TCPA does not define the terms “artificial” or “prerecorded voice.” As a result, can the Commission define those terms in a way that would allow these types of calls by individuals with disabilities?

21. In addition, do the Commission's obligations to ensure that telecommunications and advanced communications services and equipment be accessible and usable by people with disabilities authorize us to exclude positive uses of AI and other technologies that benefit individuals with disabilities from the TCPA's restrictions on the use of artificial or prerecorded voice messages? How would the Commission reconcile such an approach with the Commission's prior rulings in the Soundboard Declaratory Ruling confirming that the presence of a live agent on a call selecting the prerecorded messages to be played “does not negate the clear statutory prohibition against initiating a call using a prerecorded or artificial voice” and the AI Declaratory Ruling in which the Commission found that AI and other technologies that generate human voices fall within the TCPA. How could the Commission ensure any such approach does not create a loophole that could be used by telemarketers or bad actors to circumvent the TCPA's protections? The Commission seeks comment on these and other alternatives that might assist us in formulating a means to ensure that the TCPA's restrictions on robocalls do not inadvertently impede the ability of individuals with disabilities to use the telephone network.

Costs and Benefits

22. The Commission seeks comment on the potential costs and benefits of taking any of its proposed regulatory measures to address the use of AI technologies. Specifically, the Commission seeks comment on whether and to what degree the changes the Commission proposes here will improve consumers' ability to identify, manage, and benefit from the use of calls that contain AI-generated voices. In addition, the Commission seeks comment on any potential costs of its proposals on callers, including smaller entities, to disclose the use of AI-generated technologies and honor requests not to make such calls to consumers who do not provide consent. The Commission seeks comment on these and any other considerations that may shed light on the potential costs and benefits of adopting its proposals.

Legal Authority

23. TCPA. The Commission tentatively concludes that section 227 provides us with legal authority to adopt the proposals. As noted above, the TCPA authorizes the Commission to make “technical and procedural standards for systems that are used to transmit any artificial or prerecorded voice message via telephone.” In addition, the legislative history contemplated the Commission's need for the flexibility to address future technologies that impact the TCPA's consumer privacy protections from unwanted robocalls.

24. The TCPA also prohibits the use of an artificial or prerecorded voice message in calls to a residential or wireless telephone number absent the prior express consent of the called party or a recognized exemption. The Commission has recently confirmed that the TCPA's restrictions on the use of “artificial or prerecorded voice” encompass current AI technologies that resemble human voices and/or generate call content using a prerecorded voice. As a result, the Commission believes that the proposals set forth herein to disclose the use of AI-generated calls and exempt individuals with disabilities from the TCPA's prohibitions on artificial or prerecorded voice calls are authorized by the TCPA. The Commission seeks comment on this tentative conclusion including whether any other legal authorities such as those that govern the provision of communications services to individuals with disabilities may lend additional support to its tentative conclusion. Alternatively, is there any reason to conclude that these existing legal authorities do not provide the Commission with sufficient statutory authority to ensure that the use of emerging AI technologies, as the Commission proposes to define it, does not erode consumer protections under the TCPA?

Digital Equity and Inclusion

25. The Commission, as part of its continuing effort to advance digital equity for all, including people of color, persons with disabilities, persons who live in rural or Tribal areas, and others who are or have been historically underserved, marginalized, or adversely affected by persistent poverty or inequality, invites comment on any equity-related considerations and benefits (if any) that may be associated with our proposals. Specifically, the Commission seeks comment on how its proposals may promote or inhibit advances in diversity, equity, inclusion, and accessibility, as well the scope of the Commission's relevant legal authority.

Notice of Inquiry

Real-Time Call Detection, Call Alerting, and Call Blocking Technologies

26. The Commission seeks comment on the development and availability of technologies on either the device or network level that can: (1) detect incoming calls that are potentially fraudulent and/or AI-generated based on real time analysis of voice call content; (2) alert consumers to the potential that such voice calls are fraudulent and/or AI-generated; and (3) potentially block future voice calls that can be identified as similar AI-generated or otherwise fraudulent voice calls based on analytics. Specifically, what steps can the Commission take to encourage the development and deployment of these technologies, including to consumers regardless of their economic means or the type of telephone service to which they subscribe? Further, the Commission seeks comment on the privacy implications of call detection technologies that analyze the content of calls in real time to identify calls that are potentially fraudulent and/or feature AI-generated voice without the required disclosure proposed above. To that end, the Commission asks whether the Commission should adopt rules governing the use of call detection, alerting, or blocking technologies to protect the privacy of both callers and called parties.

27. The record highlights several examples of call detection and alerting technologies that can help detect scam calls or calls that use AI-generated voice based on real time content analysis of the incoming call. For example, Google announced it is “testing a new call monitoring feature that will warn users if the person they're talking to is likely attempting to scam them and encourage them to end such calls.” This technology will “utilize Gemini Nano—a reduced version of the company's Gemini large language model for Android devices that can run locally and offline—to look for fraudulent language and other conversation patterns typically associated with scams. Users will receive real-time alerts during calls where these red flags are present.” Other technologies under development seek to authenticate human voice as a method of thwarting calls featuring AI-generated voices, such as scam calls that do not disclose the use of AI. For example, OriginStory states it is developing a new technique that “authenticates the human origin of voice recordings at the point of creation and then embeds this authentication as a watermark or signature in the stream, establishing a chain of trust from the moment the voice is captured to when it reaches the listener.” Microsoft's Azure Operator Call Protection is a data-based service offered to telephone service providers at the network level that “detects potential phone scams, performs real-time AI-driven analysis of consumer phone calls, and alerts subscribers when they are at risk of being scammed.” The same technologies capable of detecting scam calls or calls using AI-generated voice could potentially be programmed to block future calls that can be identified as similar based on analytics. How far along are these and similar technologies in development? Have they proven useful in protecting consumers? Are there other examples of these kinds of technologies in existence today or in development, including any capable of detecting AI-generated voice? To ensure that providers do not interfere with consumer privacy rights as part of AI detection efforts, the Commission emphasizes that they must continue to comply with existing Federal and state laws regarding lawful interception, including the Electronic Communications Privacy Act (ECPA), and that nothing discussed herein proposes to alter any prohibitions under existing statutes.

28. Should the Commission act to further the development and deployment of such technologies? Are there legal, technical, and/or practical barriers to wide-scale deployment and adoption of such applications? Does the Commission have the statutory authority and technical expertise to address these barriers? To what extent do these technologies duplicate or complement STIR/SHAKEN and other caller ID authentication solutions? How do issues regarding IP interconnection across voice service networks impact the ability of providers to enable real-time monitoring of voice traffic using AI technologies? Will technologies that enable real-time monitoring of voice traffic require service providers to upgrade their network infrastructure? If so, how long and at what cost will it take providers to upgrade their networks? Do these technologies require new devices at potentially greater cost to consumers? Will these detection and alerting technologies be provided to consumers at an additional cost, thereby increasing the overall cost of voice services to consumers? How can the Commission ensure the benefits of these technologies are available to all consumers, including across the various mobile telephone platforms, as well as on landlines? For example, how do these technologies monitor robocalls in languages other than English? Should these technologies monitor languages based on population, subscriber preference, Census data, or some other appropriate metric? What role should industry standards play in the development and implementation of call detection technologies that analyze call content in real time such as those discussed above? Do these technologies risk blocking or inhibiting legitimate AI-generated calls, such as public safety calls, calls from people with disabilities using AI-enabled services, or other exempted calls? If so, how will they mitigate the inadvertent blocking of such calls and messages?

Privacy Implications of Real-Time Call Detection, Call Alerting, and Call Blocking Technologies

29. While the AI-enabled call detection, alerting, and blocking technologies discussed above promise to be effective tools in protecting consumers from unwanted calls, including scam calls, the Commission believes that these tools pose significant privacy risks, insofar as they appear to rely on analysis and processing of the content of calls—which are very sensitive data—by application or device providers, who already have access to the personally identifiable information (PII) of their users. Accordingly, the Commission seeks comment on the privacy implications of call detection, alerting, and blocking technologies. The Commission also seeks comment on whether Commission should consider requirements to protect the privacy of callers and called parties, and, if so, what such requirements should be. If the Commission adopts privacy requirements in this area, should the Commission rely on notice-and-consent principles, or should the Commission instead adopt substantive protections such as minimization requirements for data collection, purpose limitations for data processing, and categorical restrictions on sharing and disclosure?

30. The Commission first seeks comment on how these technologies capture and analyze call content data and on any steps that developers and users of these tools can use or are already using to protect the privacy of both callers and called parties. How do these systems process call content data? Do these systems store call data on the device or at the network level? If so, for how long? Do these applications anonymize data while the data are being analyzed? How do they store such data, and do they share it with third parties? If they do share such data, for what purposes, and how do they ensure that third parties cannot use the data for extraneous or unrelated commercial purposes? Do providers of these technologies and applications make their data practices clear to consumers? Do they provide notice to the caller and rely on opt-out or opt-in consent, prior to their initiation? Do they provide notice and enable consent to called parties? The Commission also seeks comment on what rights are afforded to consumers with respect to any data collected? Can consumers view those data? Correct those data? Request destruction of those data? Are the data portable? Do these systems ensure malicious actors cannot access these data? To what purposes do entities that offer these applications and technologies currently process any data they collect? What are the valid or reasonably related purposes to which such entities should be permitted to process the collected data?

31. The Commission also seeks comment on what Federal and state privacy laws already apply to the use of call detection, alerting, and blocking technologies, including the ECPA and state wiretapping and interception laws? Do these laws address the privacy concerns identified above?

32. To the extent commenters do not think that provider practices or existing laws are sufficient, the Commission next seeks comment on whether and how the Commission should address the privacy concerns discussed above. Starting with the traditional privacy principles of notice and consent, should the Commission adopt a rule requiring consent of the called party prior to analyzing any incoming calls? Should the caller be afforded notice and consent? If so, would this potentially frustrate the benefits of call detection, alerting, and blocking technologies, by allowing malicious actors to effectively veto their use? If not, what protections exist for non-malicious callers who have a legitimate privacy interest in not having the contents of their calls collected and processed by unknown third parties? What level of consent is appropriate for the called party and, to the extent applicable, the caller?

33. The Commission also seeks comment on whether substantive privacy protections might be more appropriate in this area than notice and consent requirements. For example, should the Commission adopt rules that prohibit or limit to some degree any technology or application that analyzes the content of calls in real time from: (1) recording the content of the call; (2) retaining a transcript, recording, or meta data associated with the call; (3) disclosing the content of the call to any person or other party; and/or (4) using the analysis of the call for any other purpose than determining whether to identify and alert the recipient that a call is likely to be fraudulent or AI-generated? The Commission believes that rules such as these would be consistent with the privacy protections that parties developing AI-enabled call analytic systems acknowledge are required under existing Federal law. Would such rules help prevent unscrupulous purveyors of similar call detection applications from violating consumers' privacy while also creating an additional layer of protection against privacy violations by virtue of the Commission's rulemaking and enforcement authority? How could the Commission craft such rules to ensure that they protect consumer privacy without disrupting existing services that combat robocalls? For example, would consent-based exemptions accomplish this goal?

34. The Commission also seeks comment on how developers train the large language models that aid in call detection, alerting, and blocking technologies. What data sets do developers use to train the large model, and do they include call data? How do these applications ensure compliance with Federal and state wiretap laws, including states with two-party consent requirements? Should the Commission require standards to limit the use of personal information for training AI models used for call content analysis?

35. As the Commission considers the necessity of such rules discussed above, the Commission seeks comment on whether the Communications Act grants the Commission the authority to adopt rules regarding the implementation of any AI-enabled call detection, alerting, or blocking technologies, including by adopting specific requirements to protect subscribers' privacy. Section 227(c) of the Communications Act directs the Commission to “protect residential telephone subscribers' privacy rights to avoid receiving telephone solicitations to which they object.” To do this, the Act directs the Commission “to compare and evaluate alternative methods and procedures (including the use of electronic databases, telephone network technologies, special directory markings, industry-based or company-specific `do not call' systems, and any other alternatives, individually or in combination) for their effectiveness in protecting such privacy right.”

36. Finally, the Act directs the Commission to “develop proposed regulations to implement the methods and procedures that the Commission determines are most effective and efficient to accomplish the purposes of this section.” The Commission seeks comment on whether the call detection, alerting, and blocking technologies the Commission discusses constitute both a telephone network technology and an alternative method identified by the Commission that protects subscriber's privacy rights to avoid receiving objectionable telephone solicitations. Does the Commission have the authority to develop regulations related to the methods and procedures for the implementation of any AI-enabled call detection, alerting, and blocking technologies?

Other

37. NIST AI Risk Management Framework. On January 26, 2023, the U.S. Department of Commerce's National Institute of Standards and Technology (NIST) released the NIST AI Risk Management Framework (AI RMF) “to offer a resource to the organizations designing, developing, deploying, or using AI systems to help manage the many risks of AI and promote trustworthy and responsible development and use of AI systems.” The Commission seeks comment on how this framework could further the Commission's understanding related to the risks surrounding the use of AI technologies to combat unwanted and fraudulent calls.

Procedural Matters

38. Paperwork Reduction Act. This document may contain new or modified information collection requirements subject to Paperwork Reduction Act of 1995 (PRA), Public Law 104-13. The Commission, as part of its continuing effort to reduce paperwork burdens, invites the general public and the Office of Management and Budget (OMB) to comment on the information collection requirements contained in this document, as required by the PRA. In addition, pursuant to the Small Business Paperwork Relief Act of 2002, Public Law 107-198, see 44 U.S.C. 3506(c)(4), the Commission seeks specific comment on how the Commission might further reduce the information collection burden for small business concerns with fewer than 25 employees.”

39. Regulatory Flexibility Act. The Regulatory Flexibility Act of 1980, as amended (RFA), requires that an agency prepare a regulatory flexibility analysis for notice and comment rulemakings, unless the agency certifies that “the rule will not, if promulgated, have a significant economic impact on a substantial number of small entities.” Accordingly, the Commission has prepared an Initial Regulatory Flexibility Analysis (IRFA) concerning the potential impact of the rule and policy changes contained in the NPRM. The IRFA is set forth in this document. The Commission invites the general public, in particular small businesses, to comment on the IRFA. Comments must be filed by the deadlines for comments in the DATES section of this document and must have a separate and distinct heading designating them as responses to the IRFA.

40. Ex Parte Rules. The proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Initial Regulatory Flexibility Analysis

41. As required by the Regulatory Flexibility Act of 1980, as amended (RFA), the Federal Communications Commission (Commission) has prepared this Initial Regulatory Flexibility Analysis (IRFA) of the possible significant economic impact on a substantial number of small entities by the policies proposed in the NPRM. Written public comments are requested on this IRFA. Comments must be identified as responses to the IRFA and must be filed by the deadlines for comments in the NPRM. The Commission will send a copy of the NPRM, including the IRFA, to the Chief Counsel for Advocacy of the Small Business Administration (SBA). In addition, the NPRM and the IRFA (or summaries thereof) will be published in the Federal Register.

Need for, and Objectives of, the Proposed Rules

42. The Commission initiates this proceeding to protect consumers from unwanted robocalls by proposing rules to address the emerging use of AI technologies to ensure that consumers continue to receive the protections afforded under the Telephone Consumer Protection Act (TCPA). The TCPA sets forth specific requirements relating to the use of artificial and prerecorded voice messages in telephone calls. As the use of AI-generated calls becomes increasingly prevalent, it is critical that the Commission's rules ensure that consumer privacy is not eroded by the use of these emerging technologies. The proposed rules are therefore designed to ensure that the Commission's rules keep pace with technological changes while not impeding the beneficial uses of AI technologies. Specifically, the Commission proposes to define AI-generated calls to ensure that consumers know when they receive an AI-generated call; to adopt protections for consumers to ensure that callers adequately apprise them of their potential use of AI-generated calls when consumers consent to receive such calls; and to ensure that positive uses of AI that assist people with disabilities to use the telephone network can thrive without threat of TCPA liability.

Legal Basis

43. The proposed action is authorized pursuant to sections 1-4, 225, 227, 255, and 403 of the Communications Act of 1934, as amended, 47 U.S.C. 151-154, 225, 227, 255, and 403.

Description and Estimate of the Number of Small Entities to Which the Proposed Rules Will Apply

44. The RFA directs agencies to provide a description of and, where feasible, an estimate of the number of small entities that may be affected by the proposed rules and policies, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA.

45. Small Businesses, Small Organizations, Small Governmental Jurisdictions. The Commission's actions, over time, may affect small entities that are not easily categorized at present. We, therefore describe at the outset, three broad groups of small entities that could be directly affected herein. First, while there are industry specific size standards for small businesses that are used in the regulatory flexibility analysis, according to data from the SBA's Office of Advocacy, in general a small business is an independent business having fewer than 500 employees. These types of small businesses represent 99.9% of all businesses in the United States, which translates to 33.2 million businesses.

46. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

47. Finally, the small entity described as a “small governmental jurisdiction” is defined generally as “governments of cities, counties, towns, townships, villages, school districts, or special districts, with a population of less than fifty thousand.” U.S. Census Bureau data from the 2022 Census of Governments indicate there were 90,837 local governmental jurisdictions consisting of general purpose governments and special purpose governments in the United States. Of this number, there were 36,845 general purpose governments (county, municipal, and town or township) with populations of less than 50,000 and 11,879 special purpose governments—independent school districts with enrollment populations of less than 50,000. Accordingly, based on the 2022 U.S. Census of Governments data, the Commission estimates that at least 48,724 entities fall into the category of “small governmental jurisdictions.”

48. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including voice over internet protocol (VoIP) services, wired (cable) audio and video programming distribution, and wired broadband internet services. By exception, establishments providing satellite television distribution services using facilities and infrastructure that they operate are included in this industry Wired Telecommunications Carriers are also referred to as wireline carriers or fixed local service providers.

49. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2022 Universal Service Monitoring Report, as of December 31, 2021, there were 4,590 providers that reported they were engaged in the provision of fixed local services. Of these providers, the Commission estimates that 4,146 providers have 1,500 or fewer employees. Consequently, using the SBA's small business size standard, most of these providers can be considered small entities.

50. Wireless Carriers and Service Providers. Wireless Telecommunications Carriers (except Satellite) is the closest industry with an SBA small business size standard applicable to these service providers. The SBA small business size standard for this industry classifies a business as small if it has 1,500 or fewer employees. U.S. Census Bureau data for 2017 show that there were 2,893 firms that operated in this industry for the entire year. Of this number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

51. Telemarketing Bureaus and Other Contact Centers. This industry comprises establishments primarily engaged in operating call centers that initiate or receive communications for others—via telephone, facsimile, email, or other communication modes—for purposes such as (1) promoting clients products or services, (2) taking orders for clients, (3) soliciting contributions for a client, and (4) providing information or assistance regarding a client's products or services. These establishments do not own the product or provide the services they are representing on behalf of clients. The SBA small business size standard for this industry classifies firms having $25.5 million or less in annual receipts as small. According to U.S. Census Bureau data for 2017, there were 2,250 firms in this industry that operated for the entire year. Of this number 1,435 firms had revenue of less than $10 million. Based on this information, the majority of firms in this industry can be considered small under the SBA small business size standard.

52. Telephone Apparatus Manufacturing. This industry comprises establishments primarily engaged in manufacturing wire telephone and data communications equipment. These products may be stand-alone or board-level components of a larger system. Examples of products made by these establishments are central office switching equipment, cordless and wire telephones (except cellular), private branch exchange (PBX) equipment, telephone answering machines, local area network (LAN) modems, multi-user modems, and other data communications equipment, such as bridges, routers, and gateways. The SBA small business size standard for Telephone Apparatus Manufacturing classifies businesses having 1,250 or fewer employees as small. U.S. Census Bureau data for 2017 show that there were 189 firms in this industry that operated for the entire year. Of this number, 177 firms operated with fewer than 250 employees. Thus, under the SBA size standard, the majority of firms in this industry can be considered small.

Description of Projected Reporting, Recordkeeping, and Other Compliance Requirements for Small Entities

53. The NPRM seeks comment on issues that may alter the Commission's current information collection, reporting, recordkeeping, or compliance requirements for small entities. Specifically, the NPRM proposes and seeks comment on how to define AI in a way that is relevant to fulfilling the Commission's statutory responsibilities under the TCPA, requiring callers to disclose when a caller uses an AI-generated voice, removing impediments to beneficial uses of AI to promote access to telephone service by individuals with disabilities, and requests information on additional call blocking and call alerting technologies that can assist consumers in avoiding unwanted AI-generated calls or scams, including whether the Commission should require specific language for the disclosure, or audio-visual prompts that indicate an AI-generated voice is being used. Affected small entities may need to alter existing calling practices when making calls that contain an AI-generated voice to disclose to the called party that the call is using an AI-generated technology. Measures may have to be taken by small telecommunications providers or equipment makers to ensure that individuals with disabilities can use technologies to make calls that contain artificial or prerecorded voices without running afoul of the TCPA.

54. The Commission invites comment on the costs and burdens of the proposals in the NPRM that may impact small entity callers. The Commission expects the information received in comments, including, where requested, cost and benefit analyses, will help the Commission identify and evaluate relevant compliance matters for small entities that may result if the proposals and associated requirements discussed in the NPRM are ultimately adopted.

Steps Taken To Minimize the Significant Economic Impact on Small Entities, and Significant Alternatives Considered

55. The RFA requires an agency to describe any significant alternatives that could minimize impacts to small entities that it has considered in reaching its approach, which may include the following four alternatives, (among others): (1) the establishment of differing compliance or reporting requirements or timetables that take into account the resources available to small entities; (2) the clarification, consolidation, or simplification of compliance and reporting requirements under the rule for such small entities; (3) the use of performance, rather than design, standards; and (4) and exemption from coverage of the rule, or any part thereof, for such small entities.

56. In the NPRM, the Commission seeks comment on several alternatives considered that may impact small entities. For example, the Commission proposes that callers disclose when a caller uses an AI-generated voice on a call but seek comment on whether certain usage or categories of calls that contain AI-generated voice messages should be excluded from this requirement. This would avoid placing certain compliance burdens on small entity callers to make such disclosures, and minimize some economic impact for these entities. The Commission also seeks comment on alternative definitions of AI in this context to ensure that the scope of calls that fall under that definition is consistent with the privacy protections afforded under the TCPA and whether it may inadvertently encumber technologies that do not fall within the TCPA. Next, the Commission seeks comment on whether there are ways in which the telecommunications industry might assist to ensure that calls made by individuals with disabilities under the proposed exemption do not run afoul of the condition that such calls not be charged to the called party. The Commission seeks comment on alternative ways to accomplish this objective including voluntary efforts by industry or equipment manufacturers.

57. The Commission expects to more fully consider the economic impact and alternatives for small entities following review of comments and costs and benefits analysis filed in response to the NPRM. The Commission's evaluation of this information will shape the final alternatives it considers, the final conclusions it reaches, and any final actions it ultimately takes in this proceeding to minimize any significant economic impact that may occur on small entities.

Federal Rules That May Duplicate, Overlap, or Conflict With the Proposed Rules

58. None.

Ordering Clauses

59. Accordingly, it is ordered, pursuant to sections 1-4, 225, 227, 255, and 403 of the Communications Act of 1934, as amended, 47 U.S.C. 151-154, 227, 255, and 403 that the Notice of Proposed Rulemaking and Notice of Inquiry is hereby Adopted.

60. It is further ordered that, pursuant to applicable procedures set forth in §§ 1.415 and 1.419 of the Commission's Rules, 47 CFR 1.415, 1.419, interested parties may file comments on the Notice of Proposed Rulemaking and Notice of Inquiry on or before 30 days after publication in the Federal Register, and reply comments on or before 45 days after publication in the Federal Register.

61. It is further ordered that the Commission's Office of Secretary, shall send a copy of the Notice of Proposed Rulemaking, including the Initial Regulatory Flexibility Analyses, to the Chief Counsel for Advocacy of the Small Business Administration.

List of Subjects in 47 CFR Part 64

Communications common carriers, Communications equipment, Individuals with disabilities, Reporting and recordkeeping requirements, Telecommunications, Telephone.

Federal Communications Commission.
Marlene Dortch,
Secretary.

Proposed Rules

For the reasons discussed above, the Federal Communications Commission proposes to amend 47 CFR part 64 as follows:

PART 64—MISCELLANEOUS RULES RELATING TO COMMON CARRIERS

1. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

Subpart L—Restrictions on Telemarketing, Telephone Solicitation, and Facsimile Advertising

2. Amend § 64.1200 by:

a. Removing the word “or” at the end of paragraph (a)(3)(iv);

b. Removing the period at the end of paragraph (a)(3)(v) and adding “; or” in its place;

c. Adding paragraphs (a)(3)(vi), (a)(9)(v), and (a)(13);

d. Revising paragraph (b)(1);

e. Removing the word “and” at the end of paragraph (f)(9)(i)(A);

f. Removing the period at the end of paragraph (f)(9)(i)(B) and adding “; and” in its place; and

g. Adding paragraphs (f)(9)(i)(C) and (f)(20).

The additions and revisions read as follows:

§ 64.1200 Delivery restrictions.

(a) * * *

(3) * * *

(vi) Is made by an individual with a speech or hearing disability using any technology, including artificial intelligence technologies, designed to facilitate the ability of such individuals to communicate using an artificial or prerecorded voice over the telephone and does not include or introduce an advertisement or constitute telemarketing.

* * * * *

(9) * * *

(v) Calls made by individuals with speech or hearing disabilities using any technology, including artificial intelligence (AI) technologies, designed to facilitate the ability of such individuals to communicate using an artificial or prerecorded voice over the telephone, provided that the calls must not include any telemarketing or advertising content.

* * * * *

(13) Callers making an AI-generated call subject to the requirements contained in paragraphs (a)(1) through (3) of this section must provide clear and conspicuous disclosure that they intend to use AI-generated voice or text content on such calls when obtaining the prior express consent of the called party.

(b) * * *

(1) At the beginning of the message, state clearly the identity of the business, individual, or other entity that is responsible for initiating the call, and disclose whether the call uses an artificial intelligence-generated voice. If a business is responsible for initiating the call, the name under which the entity is registered to conduct business with the State Corporation Commission (or comparable regulatory authority) must be stated;

* * * * *

(f) * * *

(9) * * *

(i) * * *

(C) For AI-generated calls, that the caller intends to make use of AI-technology to generate voice or text content and the person signing the agreement specifically agrees to receive calls that include AI-generated content.

* * * * *

(20) The term AI-generated call means a call that uses any technology or tool to generate an artificial or prerecorded voice or a text using computational technology or other machine learning, including predictive algorithms, and large language models, to process natural language and produce voice or text content to communicate with a called party over an outbound telephone call.

* * * * *

[FR Doc. 2024-19028 Filed 9-9-24; 8:45 am]

BILLING CODE 6712-01-P